ENVIRONMENTAL PROTECTION AGENCY

40 CFR Part 770

[EPA-HQ-OPPT-2012-0018; FRL-9397-2]

RIN 2070-AJ92

Formaldehyde Emissions Standards for Composite Wood Products; Extension of Comment Period

AGENCY: Environmental Protection Agency (EPA).

ACTION: Proposed rule; extension of comment period.

SUMMARY: EPA issued a proposed rule in the Federal Register of June 10, 2013, concerning formaldehyde emissions standards for composite wood products. After receiving requests for an extension, EPA extended the comment period from August 9, 2013, to September 9, 2013. EPA received additional comments and believes it is appropriate to further extend the comment period in order to give stakeholders additional time to assess the impacts of the proposal, review technical documents in the docket, and prepare comments. This document extends the comment period from September 9, 2013, to October 9, 2013.

DATES: Comments, identified by docket identification (ID) number EPA-HQ-OPPT-2012-0018, must be received on or before October 9, 2013.

ADDRESSES: Follow the detailed instructions as provided under ADDRESSES in the Federal Register document of June 10, 2013.

FOR FURTHER INFORMATION CONTACT: For technical information contact: Cindy Wheeler, National Program Chemicals Division (7404T), Office of Pollution Prevention and Toxics, Environmental Protection Agency, 1200 Pennsylvania Ave. NW., Washington, DC 20460-0001; telephone number: (202) 566-0484; email address: wheeler.cindy@epa.gov.

For general information contact: The TSCA-Hotline, ABVI-Goodwill, 422 South Clinton Ave., Rochester, NY 14620; telephone number: (202) 554-1404; email address: TSCA-Hotline@epa.gov.

SUPPLEMENTARY INFORMATION:

This document extends the public comment period established in the Federal Register of July 23, 2013 (78 FR 44089) (FRL-9394-1). EPA is hereby extending the comment period, which was set to end on September 9, 2013, to October 9, 2013.

To submit comments, or access the docket, please follow the detailed instructions as provided under ADDRESSES in the June 10, 2013 (78 FR 34820) (FRL-9342-3), Federal Register document. If you have questions, consult the technical person listed under FOR FURTHER INFORMATION CONTACT.

List of Subjects in 40 CFR Part 770

Environmental protection, Formaldehyde, Reporting and recordkeeping requirements, Toxic substances, Wood.

Dated: August 15, 2013.
Louise P. Wise,
Acting Assistant Administrator, Office of Chemical Safety and Pollution Prevention.

[FR Doc. 2013-20414 Filed 8-20-13; 8:45 am]

BILLING CODE 6560-50-P